DEPARTMENT OF TRANSPORTATION

Pipeline and Hazardous Materials Safety Administration

49 CFR Part 173

[Docket No. PHMSA-2013-0205; Notice No. 14-4]

Clarification on Fireworks Policy Regarding Display Mines

AGENCY: Pipeline and Hazardous Materials Safety Administration (PHMSA), DOT.

ACTION: Clarification.

SUMMARY: This document clarifies PHMSA's policy regarding applications for classification approval of Display Mines provided they conform to the acceptable criteria described in this guidance, and otherwise comply with the APA Standard 87-1 requirements.

DATES: September 24, 2014.

FOR FURTHER INFORMATION CONTACT: Mr. Ryan Paquet, Director, Approvals and Permits Division, Office of Hazardous Materials Safety, (202) 366-4512, PHMSA, 1200 New Jersey Avenue SE., Washington, DC 20590.

SUPPLEMENTARY INFORMATION:

I. Introduction

In this document, PHMSA's Office of Hazardous Materials Safety (OHMS) is issuing this policy regarding its classification approval of Display Mines, which describes acceptable criteria for these types of fireworks. PHMSA previously evaluated and approved these devices; however, PHMSA has not previously published guidance regarding the approval of these types of fireworks. This clarification will help fireworks manufacturers and their U.S. designated agents that file applications on their behalf, to provide accurate applications to PHMSA for approval, which will minimize the delay in processing these applications, while sustaining the current level of safety.

II. Background

PHMSA's OHMS, Approvals and Permits Division, receives approval applications for various types of fireworks, including Division 1.3G Display Mines. Division 1.3G fireworks applications may be approved in accordance with subpart C of part 173 of the Hazardous Materials Regulations (HMR, 49 CFR parts 171-180). Division 1.3G fireworks applicants have the option for obtaining an EX classification approval without prior testing by a DOT-approved explosive test laboratory, provided that the firework device is manufactured in accordance with the APA Standard 87-1 and passes a thermal stability test as required by § 173.64(a)(1) and (2). The APA Standard 87-1 currently does not specifically address Display Mines; however, it does provide the requirements for display shells.

Display Mines that conform to the acceptable criteria described in this guidance, and all applicable requirements in the APA Standard 87-1, (e.g., chemical compositions and shell diameter sizes), may be submitted to PHMSA for approval classification.

III. Guidelines for Display Mines

PHMSA considers a Display Mine to be a cylindrical or spherical cartridge that contains a propelling charge and does not contain a primary burst charge or a main delay fuse. Internal effects (e.g. crossettes or small display shells) are permitted to contain a burst charge and an internal delay fuse. The internal effects are launched from a tube by the propelling charge. Display Mines range from 2 inches (50mm) to 10 inches (250mm) in exterior diameter and are classed as UN0335, Fireworks, Division 1.3G.

To be accepted for review and consideration, PHMSA expects Display Mines to be designed so that they (1) will not leak pyrotechnic composition during transportation in accordance with § 173.54(c); and (2) are constructed of sturdy materials, such as (but not limited to) plastic, Kraft paper, or cardboard. Designs must meet the requirements of 49 CFR 173.56(b) or 173.64, the APA Standard 87-1 and must pass a thermal stability test as required by § 173.64(a)(2).

Issued in Washington, DC, under authority delegated in 49 CFR 1.97.
William S. Schoonover,
Deputy Associate Administrator, Pipeline and Hazardous Materials Safety Administration.

[FR Doc. 2014-22705 Filed 9-23-14; 8:45 am]

BILLING CODE 4910-60-P